DEPARTMENT OF ENERGY

Federal Energy Regulatory Commission

[Docket No. RM16-17-000]

Data Collection for Analytics and Surveillance and Market-Based Rate Purposes; Notice of Posting of Staff's Technical Workshop Notes

On August 11, 2016, Commission staff held a technical workshop to review the draft data dictionary attached to the Notice of Proposed Rulemaking in this docket (RM16-17).¹ The workshop provided a forum for interactive, detailed discussion of the elements contained in the draft data dictionary.

¹ Data Collection for Analytics and Surveillance and Market-Based Rate Purposes, FERC Stats. & Regs. ¶ 32,717 (2016).

This notice announces that Staff's notes on the technical workshop have been posted to the Commission's Web site. These notes are an informal summary of the key points from the workshop and are not intended to be an official transcript of the proceedings. The notes can be found on the event page for the workshop under the `Related Files' heading. A link to the event page is provided below: http://www.ferc.gov/EventCalendar/EventDetails.aspx?ID=8416&CalType=%20&CalendarID=116&Date=08/11/2016&View=Listview.

For additional information, please contact David Pierce of FERC's Office of Enforcement at (202) 502-6454 or send an email to RM16-17.NOPR@ferc.gov.

Dated: September 9, 2016.
Nathaniel J. Davis, Sr.,
Deputy Secretary.

[FR Doc. 2016-22207 Filed 9-14-16; 8:45 am]

BILLING CODE 6717-01-P